DEPARTMENT OF TRANSPORTATION

Office of the Secretary

[Dockets OST-01-11164 and OST-01-11198]

Application of Caribbean Star Airlines, Inc. for Certificate Authority

AGENCY: Department of Transportation.

ACTION: Notice of Order to Show Cause (Order 2002-6-16)

SUMMARY: The Department of Transportation is directing all interested persons to show cause why it should not issue an order finding Caribbean Star Airlines, Inc., fit, willing, and able, and awarding it certificates of public convenience and necessity to engage in interstate and foreign scheduled air transportation of persons, property and mail.

DATES: Persons wishing to file objections should do so no later than July 11, 2002.

ADDRESSES: Objections and answers to objections should be filed in Dockets OST-01-11164 and OST-01-11198 and addressed to the Department of Transportation Dockets (SVC-124, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: June 27, 2002.
Read C. Van de Water,
Assistant Secretary for Aviation and International Affairs.

[FR Doc. 02-16897 Filed 7-3-02; 8:45 am]

BILLING CODE 4910-62-P